NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 10, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Permit Application: 2013-024.

Diane M. McKnight, INSTARR, 1560 30th Street, Boulder, CO 80309.

Activity for Which Permit Is Requested

Enter Antarctic Specially Protected Areas. The applicant plans to enter access the recently designated Antarctic Specially Protected Area (ASPA) 172-Blood Falls, Santa Fe Stream and the lower Taylor Glacier in order to conduct ongoing research at Blood Falls and nearby streams and the glacier mass balance measurement sites located on the lower Taylor Glacier. Activities include collecting samples of water and ice, measuring stream discharge, and traveling through the area on foot to access monitoring sites on the glacier surface.

Location

ASPA 172- Blood Falls, Santa Fe Stream and the lower Taylor Glacier, Taylor Valley, McMurdo Dry Valleys.

Dates

December 1, 2012 to February 28, 2017.

Nadene G. Kennedy,
Permit Officer, Office of Polar Programs.

[FR Doc. 2012-27383 Filed 11-8-12; 8:45 am]

BILLING CODE 7555-01-P